DEPARTMENT OF TRANSPORTATION

Surface Transportation Board

[Docket No. AB 1117X]

St. Lawrence & Atlantic Railroad Company—Discontinuance of Service Exemption—in Cumberland County, Me.

On November 8, 2013, St. Lawrence & Atlantic Railroad Company (SLR) filed with the Surface Transportation Board (Board) a petition under 49 U.S.C. 10502 for exemption from the prior approval requirements of 49 U.S.C. 10903 to discontinue service over approximately 24.23 miles of rail line, owned by the State of Maine, between milepost 1.74 near Deering, Cumberland County, Me., and milepost 25.97 at the town line between New Gloucester, Cumberland County and Auburn, Androscoggin County, Me. (the Line).¹ The Line traverses U.S. Postal Service Zip Codes 04101, 04102, 04103, 04104, 04105, 04096, and 04069. According to the petition, the Line is stub-ended and therefore not capable of handling overhead traffic.

¹ SLR owns an exclusive, perpetual freight easement over the Line. See Maine—Petition for Declaratory Order, FD 35440 (STB served Dec. 29, 2010); Maine—Acquisition Exemption—Certain Assets of St. Lawrence & Atl. R.R., FD 35018 (STB served Sept. 13, 2007).

There is one shipper on the Line, B&M Beans, and SLR states that B&M Beans ships all of its outbound products and some of its inbound ingredients by truck. SLR estimates that B&M Beans will ship 12 cars of inbound ingredients in the forecast year.²

² For the purposes of its petition, SLR uses June 1, 2013, through May 31, 2014, as the forecast year.

SLR states that, based on information in its possession, the Line does not contain any federally granted rights-of-way. Any documentation in SLR's possession will be made available promptly to those requesting it.

The interests of railroad employees will be protected by the conditions set forth in Oregon Short Line Railroad—Abandonment Portion Goshen Branch Between Firth & Ammon, in Bingham & Bonneville Counties, Idaho, 360 I.C.C. 91 (1979).

By issuance of this notice, the Board is instituting an exemption proceeding pursuant to 49 U.S.C. 10502(b). A final decision will be issued by February 26, 2014.

Because this is a discontinuance proceeding and not an abandonment, interim trail use/rail banking, and public use conditions are not appropriate. Similarly, no environmental or historic documentation is required under 49 CFR 1105.6(c)(2) and 1105.8(b).

Any offer of financial assistance (OFA) under 49 CFR 1152.27(b)(2) to subsidize continued rail service will be due no later than March 7, 2014, or 10 days after service of a decision granting the petition for exemption, whichever occurs sooner. Each offer must be accompanied by a $1,600 filing fee. See 49 CFR 1002.2(f)(25).

All filings in response to this notice must refer to Docket No. AB 1117X and must be sent to: (1) Surface Transportation Board, 395 E Street SW., Washington, DC 20423-0001, and (2) Eric M. Hocky, Clark Hill Thorp Reed, One Commerce Square, 2005 Market Street, Suite 1000, Philadelphia, PA 19103. Replies to the petition are due on or before December 17, 2013.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis (OEA) at (202) 245-0305. Assistance for the hearing impaired is available through the Federal Information Relay Service (FIRS) at 1-800-877-8339.

Board decisions and notices are available on our Web site at “WWW.STB.DOT.GOV.”

Decided: November 21, 2013.
By the Board, Rachel D. Campbell, Director, Office of Proceedings.
Jeffrey Herzig,
Clearance Clerk.

[FR Doc. 2013-28477 Filed 11-26-13; 8:45 am]

BILLING CODE 4915-01-P